INTERNATIONAL TRADE COMMISSION

[Investigation No. 337-TA-1209 (Enforcement)]

Certain Movable Barrier Operator Systems and Components Thereof; Notice of Institution of Formal Enforcement Proceeding

AGENCY: U.S. International Trade Commission.

ACTION: Notice.

SUMMARY: Notice is hereby given that the U.S. International Trade Commission has determined to institute a formal enforcement proceeding relating to the limited exclusion order (“LEO”) and cease and desist order (“CDO”) (collectively, “the remedial orders”) issued against The Chamberlain Group, LLC (formerly, The Chamberlain Group, Inc.) (“Chamberlain”) on February 9, 2022, and modified on March 30, 2022, in the above-referenced investigation.

FOR FURTHER INFORMATION CONTACT: Houda Morad, Office of the General Counsel, U.S. International Trade Commission, 500 E Street SW, Washington, DC 20436, telephone (202) 708-4716. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On August 10, 2020, the Commission instituted this investigation under section 337 of the Tariff Act of 1930, as amended, 19 U.S.C. 1337 (“section 337”), based on a complaint filed by Overhead Door Corporation of Lewisville, Texas and GMI Holdings Inc. of Mount Hope, Ohio (collectively, “OHD”). See 85 FR 48264-65 (Aug. 10, 2020). The complaint, as supplemented, alleged a violation of section 337 based upon the importation into the United States, the sale for importation, and the sale within the United States after importation of certain movable barrier operator systems and components thereof by reason of infringement of U.S. Patent Nos. 8,970,345; 7,173,516 (“the '516 patent”); 7,180,260; 9,483,935 (“the '935 patent”); 7,956,718 (“the '718 patent”); and 8,410,895 (“the '895 patent”). See id. The notice of investigation named Chamberlain of Oak Brook, Illinois as the respondent in this investigation. See id. The Office of Unfair Import Investigations (“OUII”) was not a party to the investigation. See id.

On February 10, 2021, the Commission terminated the investigation as to the '516 patent based on the withdrawal of the allegations in the complaint as to that patent. See Order No. 10 (Jan. 19, 2021), unreviewed by Comm'n Notice (Feb. 10, 2021).

On February 9, 2022, the Commission issued a final determination finding a violation of section 337 based on Chamberlain's infringement of the asserted claims of the '935, '718, and '895 patents. See 87 FR 8605-06 (Feb. 15, 2022). The Commission further determined to: (1) issue an LEO against Chamberlain's infringing products and a CDO against Chamberlain; and (2) set a bond during the period of Presidential review in the amount of one hundred (100) percent of the entered value of the infringing articles. See id.

On March 30, 2022, the Commission issued modified remedial orders to confirm that the covered products or articles in the remedial orders include garage door openers, gate operators, and commercial operators. See 87 FR 19709-10 (Apr. 5, 2022).

On July 1, 2022, OHD filed a complaint requesting that the Commission institute an enforcement proceeding under Commission Rule 210.75 (19 CFR 210.75) to investigate alleged violations of the remedial orders by Chamberlain.

Having examined the enforcement complaint and the supporting documents, the Commission has determined to institute a formal enforcement proceeding, pursuant to Commission Rule 210.75(a) (19 CFR 210.75(a)), to determine whether violations of the remedial orders, issued on February 9, 2022, and modified on March 30, 2022, in the above-referenced investigation, have occurred and to determine what, if any, enforcement measures are appropriate. The named respondent is Chamberlain. OUII is also named as a party. In the Order issued concurrently herewith, the Commission has delegated this enforcement proceeding to the Chief Administrative Law Judge for designation of a presiding Administrative Law Judge to conduct any necessary proceedings, issue an Enforcement Initial Determination, and make a recommendation on appropriate enforcement measures, if any.

The Commission's vote on this determination took place on August 1, 2022.

The authority for the Commission's determination is contained in section 337 of the Tariff Act of 1930, as amended (19 U.S.C. 1337), and in part 210 of the Commission's Rules of Practice and Procedure (19 CFR part 210).

By order of the Commission.
Issued: August 1, 2022.
Katherine Hiner,
Acting Secretary to the Commission.

[FR Doc. 2022-16789 Filed 8-4-22; 8:45 am]

BILLING CODE 7020-02-P